DEPARTMENT OF EDUCATION

Readiness and Emergency Management for Schools

Catalog of Federal Domestic Assistance (CFDA) Number: 84.184E.

AGENCY: Office of Safe and Drug-Free Schools, Department of Education.

ACTION: Notice of final priorities and requirements.

SUMMARY: The Acting Assistant Deputy Secretary for Safe and Drug-Free Schools announces priorities and requirements under the Readiness and Emergency Management for Schools (REMS) grant program. The Acting Assistant Deputy Secretary may use these priorities and requirements for competitions in fiscal year (FY) 2009 and later years. We take this action to focus Federal financial assistance on an identified national need. We intend these priorities and requirements to support grants that will increase the capacity of local educational agencies (LEAs) to prevent and mitigate, prepare for, respond to, and recover from emergencies. This action is also taken to focus funding on LEAs that have not previously received funding under this program and to establish other core requirements.

Effective Date: These priorities and requirements are effective April 10, 2009.

FOR FURTHER INFORMATION CONTACT: Sara Strizzi, U.S. Department of Education, 1391 Speer Boulevard, suite 800, Denver, CO 80204-2512. Telephone: (303) 346-0924 or by e-mail: sara.strizzi@ed.gov.

If you use a telecommunications device for the deaf (TDD), call the Federal Relay Service, toll free, at 1-800-877-8339.

SUPPLEMENTARY INFORMATION: Purpose of Program: Past emergencies, such as the events of September 11, 2001, Hurricanes Katrina and Rita, and emergencies related to other natural and man-made hazards, reinforce the need for schools and communities to plan for traditional crises and emergencies, as well as other catastrophic events. The REMS grant program provides funds to LEAs to establish an emergency management process that focuses on reviewing and strengthening emergency management plans, within the framework of the four phases of emergency management (Prevention-Mitigation, Preparedness, Response, and Recovery). The program also provides resources to LEAs to provide training for staff on emergency management procedures and requires that LEAs develop comprehensive all-hazards emergency management plans in collaboration with community partners, including local law enforcement; public safety, public health, and mental health agencies; and local government.

Program Authority: 20 U.S.C. 7131.

We published a notice of proposed priorities and requirements for this competition in the Federal Register on December 23, 2008 (73 FR 78757). That notice contained background information and our reasons for proposing the particular priorities and requirements.

Public Comment: In response to our invitation in the notice of proposed priorities and requirements, one party submitted a comment on the proposed priorities and requirements.

Generally, we do not address technical and other minor changes.

Analysis of Comments and Changes: An analysis of the comment and of any changes in the priorities and requirements since publication of the notice of proposed priorities and requirements follows.

Comment: One commenter recommended that we add the head of the local emergency management agency as a required sixth partner on the grant. The commenter suggested that an LEA's partnership with the local emergency management agency in its jurisdiction will ensure consistent community-wide emergency management planning and training efforts and will contribute to the sustainability of the emergency management process.

Discussion: We agree that local emergency management agencies have a significant and valuable role to play in assisting with community-wide emergency planning efforts. We encourage LEAs to work closely with all relevant community partners, including local emergency management agencies, to leverage resources, ensure consistency, and avoid duplication of effort. However, local emergency management agencies do not exist in every community. Some communities do not have a designated local emergency management agency and, instead, vest emergency management authority in other agencies, such as a local fire department, law enforcement agency, or other public safety agency.

If a local emergency management agency is available to participate in a REMS grant project, its assistance is likely to be of significant value. We are interested in grantees securing partner participation from the most relevant community entities and encourage the inclusion of the local emergency management agency as a grant partner if such an agency is present. However, given the significant variation in the types of organizations involved in emergency management activities in communities across the Nation, we must provide flexibility to grantees. We have made a change in the requirement in response to this comment.

Change: We have revised Priority 1 and the requirements to clarify that a partner agreement from a local emergency management agency may be used to meet the public safety partner requirement.

Final Priorities

Priority 1—LEA Projects Designed To Develop and Enhance Local Emergency Management Capacity

This priority supports LEA projects designed to create, strengthen, or improve emergency management plans at the LEA and school-building levels and build the capacity of LEA staff so that the LEA can continue the implementation of key emergency management functions after the period of Federal funding. Projects must include a plan to create, strengthen, or improve emergency management plans, at the LEA and school-building levels, and within the framework of the four phases of emergency management: Prevention-Mitigation, Preparedness, Response, and Recovery. Projects must also include: (1) Training for school personnel in emergency management procedures; (2) coordination, and the use of partnerships, with local law enforcement, public safety or emergency management, public health, and mental health agencies, and local government to assist in the development of emergency management plans at the LEA and school-building levels; (3) a plan to sustain the local partnerships after the period of Federal assistance; (4) a plan for communicating school emergency management policies and reunification procedures for parents and guardians and their children following an emergency; and (5) a written plan for improving LEA capacity to sustain the emergency management process through ongoing training of personnel and continual review of policies and procedures.

Priority 2—Priority for LEAs That Have Not Previously Received a Grant Under the REMS Program (CFDA Number 84.184E) and Are Located in Urban Areas Security Initiative Jurisdiction

Under this priority, we give priority to applications from LEAs that (1) have not yet received a grant under this program (CFDA Number 84.184E) and (2) are located in whole or in part within Urban Areas Security Initiative (UASI) jurisdictions, as determined by the U.S. Department of Homeland Security (DHS). Applicants, including educational service agencies (ESAs), must meet both of these criteria in order to meet this priority. Under a consortium application, all members of the LEA consortium, including any ESAs, must meet both criteria to meet this priority.

Because DHS' determination of UASI jurisdictions may change from year to year, applicants under this priority must refer to the most recent list of UASI jurisdictions published by DHS when submitting their applications. In any notice inviting applications using this priority, the Department will provide applicants with information necessary to access the most recent DHS list of UASI jurisdictions.

Priority 3—Priority for Applicants That Have Not Previously Received a Grant Under the REMS Program (CFDA Number 84.184E)

Under this priority, we give priority to applications from LEAs that have not previously received a grant under this program (CFDA Number 84.184E). Applicants, including educational service agencies (ESAs), that have received funding under this program directly, or as the lead agency or as a partner in a consortium application under this program, will not meet this priority. Under a consortium application, all members of the LEA consortium must meet this criterion to meet this priority.

Types of Priorities:

When inviting applications for a competition using one or more priorities, we designate the type of each priority as absolute, competitive preference, or invitational through a notice in the Federal Register. The effect of each type of priority follows:

Absolute Priority: Under an absolute priority we consider only applications that meet the priority (34 CFR 75.105(c)(3)).

Competitive Preference Priority: Under a competitive preference priority we give competitive preference to an application by (1) awarding additional points, depending on the extent to which the application meets the priority (34 CFR 75.105(c)(2)(i)); or (2) selecting an application that meets the competitive priority over an application of comparable merit that does not meet the priority (34 CFR 75.105(c)(2)(ii)).

Invitational Priority: Under an invitational priority we are particularly interested in applications that meet the priority. However, we do not give an application that meets the priority a preference over other applications (34 CFR 75.105(c)(1)).

Final Requirements: We may apply one or more of these requirements in any year in which this program is in effect.

Partner Agreements: To be considered for a grant award, an applicant must include in its application an agreement that details the participation of each of the following five community-based partners: The law enforcement agency, the public safety or emergency management agency, the public health agency, the mental health agency, and the head of the applicant's local government (for example the mayor, city manager, or county executive). The agreement must include a description of each partner's roles and responsibilities in improving and strengthening emergency management plans at the LEA and school-building levels, a description of each partner's commitment to the continuation and continuous improvement of emergency management plans at the LEA and school-building levels, and the signature of an authorized representative of the LEA and each partner acknowledging the agreement. For consortium applications, each LEA to be served by the grant must submit a complete set of partner agreements with the signature of an authorized representative of the LEA and each corresponding partner acknowledging the agreement.

If one or more of the five partners listed in this requirement is not present in the applicant's community, or cannot feasibly participate, the agreement must explain the absence of each missing partner. To be considered eligible for funding, however, an application must include a signed agreement between the LEA, a law enforcement partner, and at least one of the other required partners (public safety or emergency management agency, public health agency, mental health agency, or the head of the local government).

Applications that fail to include the required agreement, including information on partners' roles and responsibilities and on their commitment to continuation and continuous improvement (with signatures and explanations for missing signatures as specified above), will not be read.

Although this program requires partnerships with other parties, administrative direction and fiscal control for the project must remain with the LEA.

Coordination with State or Local Homeland Security Plan: All emergency management plans receiving funding under this program must be coordinated with the Homeland Security Plan of the State or locality in which the LEA is located. To ensure that emergency services are coordinated, and to avoid duplication of effort within States and localities, applicants must include in their applications an assurance that the LEA will coordinate with and follow the requirements of its State or local Homeland Security Plan for emergency services and initiatives.

Infectious Disease Plan: To be considered for a grant award, applicants must agree to develop a written plan designed to prepare the LEA for a possible infectious disease outbreak, such as pandemic influenza. Plans must address the four phases of emergency management (Prevention-Mitigation, Preparedness, Response, and Recovery) and include a plan for disease surveillance (systematic collection and analysis of data that lead to action being taken to prevent and control a disease), school closure decision making, business continuity (processes and procedures established to ensure that essential functions can continue during and after a disaster), and continuation of educational services.

Food Defense Plan: To be considered for a grant award, applicants must agree to develop a written food defense plan that includes the four phases of emergency management (Prevention-Mitigation, Preparedness, Response, and Recovery) and is designed to safeguard the LEA's food supply, including all food storage and preparation facilities and delivery areas within the LEA.

Individuals with Disabilities: Applicants must agree to develop plans that take into consideration the communication, medical, and evacuation needs of individuals with disabilities within the schools in the LEA.

Implementation of the National Incident Management System (NIMS): Applicants must agree to implement their grant in a manner consistent with the implementation of the NIMS in their communities. Applicants must include in their applications an assurance that they have met, or will complete, all current NIMS requirements by the end of the grant period.

Because DHS' determination of NIMS requirements may change from year to year, applicants must refer to the most recent list of NIMS requirements published by DHS when submitting their applications. In any notice inviting applications, the Department will provide applicants with information necessary to access the most recent DHS list of NIMS requirements.

Note: An LEA's NIMS compliance must be achieved in close coordination with the local government and with recognition of the first-responder capabilities held by the LEA and the local government. As LEAs are not traditional response organizations, first-responder services will typically be provided to LEAs by local fire and rescue departments, emergency medical service providers, and law enforcement agencies. This traditional relationship must be acknowledged in achieving NIMS compliance in an integrated NIMS compliance plan for the local government and the LEA. LEA participation in the NIMS preparedness program of the local government is essential in ensuring that first-responder services are delivered to schools in a timely and effective manner. Additional information about NIMS implementation and requirements is available at http://www.fema.gov/emergency/nims.

This notice does not preclude us from proposing additional priorities, requirements, definitions, or selection criteria, subject to meeting applicable rulemaking requirements.

Note: This notice does not solicit applications. In any year in which we choose to use one or more of these priorities and requirements, we invite applications through a notice in the Federal Register.

Executive Order 12866: This notice of final priorities and requirements has been reviewed in accordance with Executive Order 12866. Under the terms of the order, we have assessed the potential costs and benefits of this regulatory action.

The potential costs associated with this final regulatory action are those resulting from statutory requirements and those we have determined as necessary for administering this program effectively and efficiently.

In assessing the potential costs and benefits—both quantitative and qualitative—of this final regulatory action, we have determined that the benefits of the final priorities and requirements justify the costs.

We have determined, also, that this final regulatory action does not unduly interfere with State, local, and Tribal governments in the exercise of their governmental functions.

We summarized the costs and benefits of this regulatory action in the notice of proposed priorities and requirements.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to this Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to William Modzeleski, Acting Assistant Deputy Secretary for the Office of Safe and Drug-Free Schools to perform the functions of the Assistant Deputy Secretary for Safe and Drug-Free Schools.

Dated: March 4, 2009.
William Modzeleski,
Acting Assistant Deputy Secretary for Safe and Drug-Free Schools.

[FR Doc. E9-5091 Filed 3-10-09; 8:45 am]

BILLING CODE 4000-01-P